DEPARTMENT OF ENERGY

Federal Energy Regulatory Commission

Combined Notice of Filings # 1

December 12, 2006.

Take notice that the Commission received the following electric corporate filings:

Docket Numbers: EC06-165-000.

Applicants: Pinnacle West Capital Corporation; Pinnacle West Marketing & Trading.

Description: Pinnacle West Capital Corp and Pinnacle West Marketing & Trading Co, LLC submits a response to inquiry on its proposed accounting entries pursuant to the Commission's 11/6/06 letter order.

Filed Date: 12/06/2006.

Accession Number: 20061212-0075.

Comment Date: 5 p.m. Eastern Time on Wednesday, December 27, 2006.

Take notice that the Commission received the following electric rate filings:

Docket Numbers: ER04-691-079.

Applicants: Midwest ISO.

Description: Midwest Independent Transmission System Operator, Inc. submits its Errata to the Compliance Filing made on 11/27/06.

Filed Date: 12/08/2006.

Accession Number: 20061212-0063.

Comment Date: 5 p.m. Eastern Time on Friday, December 29, 2006.

Docket Numbers: ER06-1177-002.

Applicants: PJM Interconnection, L.L.C.

Description: PJM Interconnection LLC submits revisions to its OATT pursuant to the Commission's 11/9/06 order.

Filed Date: 12/08/2006.

Accession Number: 20061211-0069.

Comment Date: 5 p.m. Eastern Time on Friday, December 29, 2006.

Docket Numbers: ER06-1549-001.

Applicants: Duquesne Power and Light Company.

Description: Duquesne Light Company submits responses to the Commission Staff's questions in the 11/30/06 letter.

Filed Date: 12/08/2006.

Accession Number: 20061211-0058.

Comment Date: 5 p.m. Eastern Time on Friday, December 29, 2006.

Docket Numbers: ER07-52-001.

Applicants: MidAmerican Energy Company.

Description: MidAmerican Energy submits a revised Attachment 1 which consist of the clean version of the Amended and Restated Electric Interconnection Agreement.

Filed Date: 12/08/2006.

Accession Number: 20061211-0070.

Comment Date: 5 p.m. Eastern Time on Friday, December 29, 2006.

Docket Numbers: ER07-307-000.

Applicants: Kentucky Utilities Company.

Description: Kentucky Utilities Company submits an amendment to a contract with the City of Nicholasville, Kentucky, Rate Schedule 307.

Filed Date: 12/08/2006.

Accession Number: 20061211-0063.

Comment Date: 5 p.m. Eastern Time on Friday, December 29, 2006.

Docket Numbers: ER07-308-000.

Applicants: Kentucky Utilities Company.

Description: Kentucky Utilities Company submits an amendment to a contract with Frankfort Electric and Water Board of Frankfort, KY aka City of Frankfort, FERC Rate Schedule 311.

Filed Date: 12/08/2006.

Accession Number: 20061211-0062.

Comment Date: 5 p.m. Eastern Time on Friday, December 29, 2006.

Docket Numbers: ER07-309-000.

Applicants: The Clark Fork and Blackfoot, L.L.C.

Description: The Clark Fork and Blackfoot, LLC submits a notice of cancellation of its market-based rate tariff, FERC Electric Tariff, First Revised Volume 1.

Filed Date: 12/08/2006.

Accession Number: 20061211-0061.

Comment Date: 5 p.m. Eastern Time on Friday, December 29, 2006.

Docket Numbers: ER07-310-000.

Applicants: Carolina Power & Light Company.

Description: Carolina Power & Light Co. submits a Notice of Cancellation of Rate Schedule 138, Netting Agreement with AYP Energy, Inc.

Filed Date: 12/08/2006.

Accession Number: 20061211-0060.

Comment Date: 5 p.m. Eastern Time on Friday, December 29, 2006.

Docket Numbers: ER07-311-000.

Applicants: Kentucky Utilities Company

Description: Kentucky Utilities Co submits an amendment to a contract with the City of Bardstown, Kentucky, Rate Schedule 302.

Filed Date: 12/08/2006.

Accession Number: 20061211-0059.

Comment Date: 5 p.m. Eastern Time on Friday, December 29, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-21606 Filed 12-18-06; 8:45 am]

BILLING CODE 6717-01-P